DEPARTMENT OF TRANSPORTATION

Federal Transit Administration

[Docket No. FTA-2024-0009]

Notice of Proposed Buy America Waiver and Request for Comment

AGENCY: Federal Transit Administration, Department of Transportation.

ACTION: Notice; request for comment.

SUMMARY: The Federal Transit Administration (FTA) received a request from the Detroit Transportation Corporation (DTC) for a Buy America nonavailability waiver for the procurement of special trackwork turnout switch components needed to keep the DTC's Elevated Guideway in a state of good repair. FTA is providing notice of the nonavailability waiver request and seeks public comment before deciding whether to grant the request. If granted, the waiver would apply for the switch components identified in the waiver request.

DATES: Comments must be received by September 24, 2024. Late-filed comments will be considered to the extent practicable.

ADDRESSES: Please submit all comments electronically to the Federal eRulemaking Portal. Go to https://www.regulations.gov and follow the instructions for submitting comments.

Instructions: All submissions must refer to the Federal Transit Administration and the docket number of this notice. Note that all submissions received, including any personal information provided, will be posted without change and will be available to the public on https://www.regulations.gov. You may review DOT's complete Privacy Act Statement in the Federal Register published April 11, 2000 (65 FR 19477), or at https://www.transportation.gov/privacy.

FOR FURTHER INFORMATION CONTACT: Jason Luebbers, FTA Attorney-Advisor, at (202) 366-8864 or Jason.Luebbers@dot.gov.

SUPPLEMENTARY INFORMATION: The purpose of this notice is to seek public comment on whether the FTA should grant a nonavailability waiver for the Detroit Transportation Corporation (DTC) for the procurement of replacement special trackwork turnout switch components (the “switch”).

Background

With certain exceptions, FTA's Buy America requirements prevent FTA from obligating an amount that may be appropriated to carry out its program for a project unless “the steel, iron, and manufactured goods used in the project are produced in the United States.” 49 U.S.C. 5323(j)(1). A manufactured product is considered produced in the United States if: (1) all of the manufacturing processes for the product take place in the United States; and (2) all of the components of the product are of U.S. origin. A component is considered of U.S. origin if it is manufactured in the United States, regardless of the origin of its subcomponents. 49 CFR 661.5(d).

FTA may waive Buy America requirements for a product if, among other reasons, a compliant version of the product is not produced in a sufficient and reasonably available amount or is not of a satisfactory quality. 49 U.S.C. 5323(j)(2)(B). FTA cannot deny a request for a nonavailability waiver unless it can provide the waiver applicant with a written certification that: the item is produced in the United States in a sufficient and reasonably available amount; the item produced in the United States is of a satisfactory quality; and includes a list of known manufacturers in the United States from which the item can be obtained. 49 U.S.C. 5323(j)(6).

DTC is the owner and operator of the Detroit People Mover, which is the largest municipal rail system in Michigan. It is an automated light rail system that operates twelve rail cars on an elevated single track in a 2.9-mile loop with thirteen passenger stations in Detroit's central business district.

The existing switches were installed as original equipment in 1987 and designed to European standards, using AREMA 115RE rail throughout the turnout with a special EN60E1A1 switch point section. The proper operation of the switch is essential for the continued, safe operations of DTC vehicles. DTC seeks a waiver for the switch because there are no known domestic manufacturers of the switch. DTC previously sought and received a Buy America waiver from FTA for two replacement switches from Delta Railroad Construction, Inc. (Delta), on April 19, 2016 (81 FR 23077).

On January 19, 2023, DTC issued a request for proposals (RFP) (No. 1-19-2023, for DTC Sub-Package 7), which includes the special track switch described above, and received two responses. Both bidders certified that the switches they could provide would not comply with the FTA Buy America requirements. Following the RFP, DTC submitted a nonavailability waiver request to FTA for the noncompliant switch components. 49 U.S.C. 5323(j)(2) and 49 CFR 661.7(c)(2).

The product that requires a waiver is one pair of EN60E1A1 switch point rails and all appurtenances associated with its installation; four transition head machined rails for connection to frog and turnout rails; and one set of switch point rods consisting of two drive rods and two detector rods. FTA estimates the total cost of goods subject to this proposed waiver is less than $300,000.

Proposed Waiver

FTA proposes waiving the Buy America requirement for the special trackwork switches DTC seeks to procure under Sub-Package 7. The proposed waiver would apply only to the switch described above that is procured after a notice of final waiver is published. The waiver would not apply to any other products or any other projects besides Sub-Package 7. The proposed waiver would be effective from the effective date of the final waiver through the period of performance and closeout of FTA's financial assistance for the project, which is estimated to be March 30, 2030.

Request for Comment

This notice satisfies FTA's requirement to publish any proposed Buy America waiver in the Federal Register and provide the public with a reasonable period of time for notice and comment. 49 U.S.C. 5323(j)(3) and section 70937(b)(1) of the Build America, Buy America Act (Pub. L. 117-58).

FTA seeks public and industry comment from all interested parties. In particular, FTA seeks comment regarding whether the waiver should be approved, and, if so, whether it should be modified from FTA's proposal and why. Relevant information and comments will help FTA understand completely the facts surrounding the waiver requests and FTA's proposal.

In accordance with Section 70916(c) of the Build America, Buy America Act, FTA will also consult with the Hollings Manufacturing Extension Partnership before approving the proposed waiver.

Veronica Vanterpool,
Acting Administrator.

[FR Doc. 2024-20257 Filed 9-6-24; 8:45 am]

BILLING CODE 4910-57-P